SMALL BUSINESS ADMINISTRATION

[Docket No.: SBA-2020-0048]

Termination of Nonmanufacturer Rule Class Waiver; Correction Notice

AGENCY: Small Business Administration.

ACTION: Correction of notice. Notification of intent to terminate the class waiver to the Nonmanufacturer Rule for radiology equipment.

SUMMARY: The U.S. Small Business Administration published a document in the Federal Register on November 16, 2021, concerning requests for comments on a proposed termination of a Nonmanufacturer Rule class waiver for radiology equipment. That notice did not include the closing date for submitting comments.

FOR FURTHER INFORMATION CONTACT: Carol Hulme, Attorney Advisor, by telephone at 202-205-6347 or by email at Carol-Ann.Hulme@sba.gov.

SUPPLEMENTARY INFORMATION:

Correction

Published in the Federal Register on November 16, 2021, in 86 FR 63436, in the second column, correct the Dates caption to read:

DATES: Comments and source information must be submitted on or before 12/31/2021.

Curtis Rich,
Management Analyst.

[FR Doc. 2021-25768 Filed 11-24-21; 8:45 am]

BILLING CODE 8026-03-P